DEPARTMENT OF THE INTERIOR

Fish and Wildlife Service

Information Collection To Be Submitted to the Office of Management and Budget (OMB) for Approval Under the Paperwork Reduction Act; Injurious Wildlife; Importation Certification for Live Fish and Fish Eggs (50 CFR 16.13)

AGENCY: Fish and Wildlife Service, Interior.

ACTION: Notice; request for comments.

SUMMARY: The U.S. Fish and Wildlife Service will submit the collection of information listed below to OMB for approval under the provisions of the Paperwork Reduction Act. A description of the information collection requirement is included in this notice. If you wish to obtain copies of the proposed information collection requirement, related forms, or explanatory material, contact the Service Information Collection Officer at the address listed below.

DATES: Submit comments on or before May 17, 2004.

ADDRESSES: Send your comments on the requirement to Anissa Craghead, Information Collection Clearance Officer, U.S. Fish and Wildlife Service, MS 222-ARLSQ, 4401 N. Fairfax Drive, Arlington, VA 22203; (703) 358-2269 (fax); or Anissa_Craghead@fws.gov (e-mail).

FOR FURTHER INFORMATION CONTACT: To request a copy of the information collection request, explanatory information, or related forms, contact Anissa Craghead by phone at (703) 358-2445 or by e-mail at Anissa_Craghead@fws.gov.

SUPPLEMENTARY INFORMATION: The Office of Management and Budget (OMB) regulations at 5 CFR 1320, which implement provisions of the Paperwork Reduction Act of 1995 (44 U.S.C. 3501 et seq.), require that interested parties and affected agencies have an opportunity to comment on information collection and recordkeeping activities (see CFR 1320.8(d)). The U.S. Fish and Wildlife Service (we, or the Service) plans to submit a request to OMB for approval of a collection of information related to importation certification for injurious species of live fish and their reproductive products. We are requesting a 3-year term of approval for these collection activities.

Federal agencies may not conduct or sponsor, and a person is not required to respond to, a collection of information unless it displays a currently valid OMB control number.

The Lacey Act (18 U.S.C. 42) (“Act”) prohibits the possession or importation of any animal or plant deemed to be and prescribed by regulation to be injurious, to human beings, to the interests of agriculture, horticulture, forestry, or to wildlife or the wildlife resources of the United States. The Department of the Interior is charged with enforcement of this Act.

The Act and our regulations at 50 CFR 16 allow for the importation of animals classified as injurious if specific criteria are met. Specifically, this information collection allows the Service to approve the importation of live salmonids and their reproductive products into the United States.

The importation of salmonids requires that we collect information from those individuals wishing to import salmonids or their reproductive products with regard to the numbers, life stages, and species to be imported, as well as their source and destination. In addition, we require a health certificate submitted by a certified Title 50 inspector to ensure the animals being imported do not pose a health risk to the nation's commercial and natural aquatic resources. Regarding the qualifications of the Title 50 inspectors, we collect information that verifies the applicants' professional qualifications and the adequacy of facilities available to those individuals to complete the inspections according to methods provided in 50 CFR 16.

We have regulated the importation of live salmonids and their reproductive products for over 25 years. In order to effectively carry out these responsibilities and protect the aquatic resources of the United States, it is essential that we gather information on the animals being imported with regard to their source, destination, and health status. It is also imperative that we ensure the qualifications of those individuals providing the relevant fish health data upon which we base our decision to allow importation. This collection allows us to gather the information necessary to make sound decisions on allowing importation of live salmonids and their reproductive products into the United States.

The information collection was approved in February 1992. We inadvertently allowed the approval to expire in February 1995 even though we were still collecting the information. At that time, we used a form to collect the qualification information from persons wishing to be designated certified Title 50 inspectors, while health certifications and import requests were generally submitted in the form of letters that varied in content and completeness. The regulations at 50 CFR 16.13 provide guidance for what must be included in the health certificate, yet these submissions were often incomplete or incorrect. In the interest of increasing efficiency and standardization, we are requesting to use three new forms to collect this information. We have submitted an emergency request to OMB to approve this information collection, including the three new forms, for six months. In addition, we are initiating the process to request regular (3-year) OMB approval of this information collection, including the three forms, through this publication and to request public comment on this information collection. The forms are described below.

Form Title: Title 50 Certifying Official Form.

OMB Control Number: 1018-0078.

Form Number: FW 3-2273.

Frequency of Collection: Every 5 years as needed.

Description of Respondents: Aquatic animal health professionals seeking to be certified Title 50 inspectors.

Total Annual Responses: 16 (estimate based on previous collection activities). There are currently approximately 80 inspectors.

Total Annual Burden Hours: 16 hours. We estimate the reporting burden at 1 hour for each of the total 16 responses, or approximately 16 hours total.

Form Title: U.S. Title 50 Certification Form.

OMB Control Number: 1018-0078.

Form Number: FW 3-2274.

Frequency of Collection: On occasion, as needed by the submitting individual or entity.

Description of Respondents: Certified Title 50 inspectors that have performed health certifications on live salmonids or their reproductive products for importation into the United States.

Total Annual Responses: Approximately 50 (estimate based on previous collection activities).

Total Annual Burden Hours: 25 hours. We estimate the reporting burden at thirty minutes for each of the total 50 responses, or approximately 25 hours total.

Form Title: Title 50 Importation Request Form.

OMB Control Number: 1018-0078.

Form Number: FW 3-2275.

Frequency of Collection: On occasion, as needed by the submitting individual or entity.

Description of Respondents: Any entity wishing to import live salmonids or their reproductive products into the United States.

Total Annual Responses: 50 (estimate based on previous collection activities)

Total Annual Burden Hours: 12.5 hours. We estimate the reporting burden at 0.25 hours for each of the total 50 responses, or approximately 13 hours total.

We invite comments on this proposed information collection on the following: (1) Whether the collection of information is necessary for the proper performance of the function of the agency, including whether the information will have practical utility; (2) the accuracy of our estimate of the burden of the collection of information; (3) ways to enhance the quality, utility, and clarity of the information to be collected; and (4) ways to minimize the burden of the collection on respondents.

Dated: March 1, 2004.
Anissa Craghead,
Information Collection Officer, Fish and Wildlife Service.

[FR Doc. 04-5450 Filed 3-16-04; 8:45 am]

BILLING CODE 4310-55-P